ENVIRONMENTAL PROTECTION AGENCY

[FRL-6545-6]

Agency Information Collection Activities: Proposed Collection; Comment Request; Performance Track Program—Environmental Achievement Track

AGENCY: Environmental Protection Agency (EPA).

ACTION: Notice.

SUMMARY: In compliance with the Paperwork Reduction Act (44 U.S.C. 3501 et seq.), this document announces that EPA is planning to submit the following proposed Information Collection Request (ICR) to the Office of Management and Budget (OMB): Performance Track Program—Environmental Achievement Track, EPA ICR 1949.01. Before submitting the ICR to OMB for review and approval, EPA is soliciting comments on specific aspects of the proposed information collection as described below.

DATES: Comments must be submitted on or before May 1, 2000.

ADDRESSES: Roberta White (2129), U.S. EPA, 401 M Street, S.W., Washington D.C. 20460. Interested persons may obtain a copy of the ICR without charge by contacting Roberta White at (202) 260-5616

FOR FURTHER INFORMATION CONTACT: Ken Munis, (202) 260-9560. Fax number: (202) 401-3998

SUPPLEMENTARY INFORMATION: Affected entities: Entities potentially affected by this action are those which voluntarily choose to participate in the EPA Performance Track.

Title: Performance Track Program— Environmental Achievement Track, EPA ICR 1949.01

Abstract: The Environmental Protection Agency is developing a national Performance Track Program to reward and motivate top environmental performance. The Performance Track program is the outcome of the July, 1999 report, “Aiming for Excellence: Actions to Encourage Stewardship and Accelerate Environmental Progress.” In this report, the Agency committed to developing a Performance Track Program to encourage good environmental performers to continue striving to improve their environmental performance.

The Performance Track is a two-tiered, voluntary program designed to promote leadership in environmental protection through the use of Environmental Management Systems (EMS), Pollution Prevention Programs, and public reporting. Qualifying program participants will benefit from a variety of incentives, including, but not limited to, public recognition, reduced monitoring and reporting, and operational flexibility. EPA will announce and begin to solicit applications for level one of the Performance Track, the Environmental Achievement Track, in June of 2000. Level two, the Environmental Stewardship Track, will be announced in May of 2001.

Participation in the Performance Track program is voluntary. To be considered for acceptance into the program, applicants for the Environmental Achievement Track will be asked to submit information documenting their Environmental Managements System (EMS), history of compliance with EPA regulations, commitment to continuous environmental performance improvement, and commitment to public outreach and performance reporting. EPA will review the applications and notify the applicant within a specified time frame whether they qualify for the program. Upon acceptance to the Environmental Achievement Track, participants will be required to make environmental performance reports accessible to the public.

The EPA would like to solicit comments to: (i) Evaluate whether the proposed collection of information is necessary for the proper performance of the functions of the agency, including whether the information will have practical utility;

(ii) Evaluate the accuracy of the agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Burden Statement: Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

EPA estimates that approximately 250 facilities may voluntarily apply to the Performance Track annually. EPA further estimates that 200 facilities will be selected to participate in the Environmental Achievement Track (Tier 1). The Agency estimates that the burden required by this action for facilities will range from 120 hours to 270 hours. The best estimate burden is 230 hours. Facilities that have operational environmental management systems in place and currently share some environmental performance information with the public will experience burden at the lower end of the range. Other facilities may require more burden to demonstrate how they meet the entry criteria.

The following table summarizes the estimate burden for the Environmental Achievement Tier.

| Facility burden hours | Facility burden cost | Number of facilities | Total burden hours | Total burden cost
Application | 40 | $1,070 | 250 | 10,000 | $270,000
Compliance Demonstration | 80 | 2,375 | 200 | 15,550 | 475,000
EMS Documentation and Reporting | 40 | 1,110 | 200 | 8,100 | 220,000
Continuous Performance Demonstration | 40 | 1,060 | 200 | 7,500 | 210,000
Reporting & Public Outreach | 30 | 860 | 200 | 6,400 | 175,000
Total | 230 | 6,475 |  | 47,550 | 1,340,000

Dated: February 25, 2000.
Daniel J. Fiorino,
Acting Director Office of Policy/Office of Policy Development.

[FR Doc. 00-5042 Filed 3-1-00; 8:45 am]

BILLING CODE 6050-50-P